DEPARTMENT OF HOUSING AND URBAN DEVELOPMENT

[Docket No. FR-5220-N-02]

Notice of Funding Availability (NOFA) for the Continuum of Care Homeless Assistance Program: Deadline for Applications and Technical Corrections

AGENCY: Office of the Assistant Secretary for Community Planning and Development, HUD.

ACTION: Notice of Funding Availability (NOFA).

SUMMARY: On July 10, 2008, HUD published in the Federal Register the NOFA for the Continuum of Care (CoC) Homeless Assistance Program. Through this NOFA, HUD is making available approximately $1.42 billion in Fiscal Year (FY) 2008 for the CoC program. The purpose of the CoC program is to reduce the incidence of homelessness in communities by assisting homeless individuals and families to move to self sufficiency and permanent housing. Today's publication establishes the deadline date for the submission of applications and corrects or clarifies portions of the CoC NOFA published on July 10, 2008.

DATES: The application submission date for applications is September 26, 2008.

FOR FURTHER INFORMATION CONTACT: Individuals may direct questions regarding the CoC NOFA to the HUD Field Office serving their area, at the telephone numbers shown in HUD's Notice of Fiscal Year (FY) 2008 Notice of Funding Availability (NOFA); Policy Requirements and General Section to HUD's FY2008 NOFAs for Discretionary Programs (General Section) published on March 19, 2008 (73 FR 14883), or may contact the e-snaps Help Desk at 1-877-6esnaps (1-877-637-6277). Individuals who are hearing- or speech-impaired should use the Information Relay Service at 1-800-877-8339 (these are toll-free numbers).

SUPPLEMENTARY INFORMATION: On April 30, 2008 (73 FR 23483), HUD published its Notice of FY2008 Opportunity to Register and Other Important Information for Electronic Application Submission for Continuum of Care Homeless Assistance Programs (CoC Early Registration Notice). The CoC Early Registration Notice alerted the public that HUD would require Continuums of Care to submit applications electronically, using e-snaps, an electronic system separate from Grants.gov. On July 10, 2008 (73 FR 39840), HUD published its CoC NOFA, making available approximately $1.42 billion in FY 2008 for the CoC program. The purpose of the CoC program is to reduce the incidence of homelessness in communities by assisting homeless individuals and families to move to self sufficiency and permanent housing. In the July 10, 2008, CoC NOFA, HUD stated that the application portion of the e-snaps system had not yet been launched and that HUD, as a result, was unable to establish a due date for the FY2008 CoC competition. HUD stated, however, that it would announce the application due date for the program through separate Federal Register notice. Today's publication establishes the deadline date for the submission of applications. Today's publication also corrects or clarifies the CoC NOFA published on July 10, 2008.

Deadline for Applications

The application deadline date for the CoC NOFA is September 26, 2008. Electronic applications must be received by e-snaps by 4 p.m. eastern time on the deadline date. HUD will close e-snaps at 4:01 p.m. eastern time. Similarly, paper applications from applicants granted a waiver from the electronic application submission requirement must be received by HUD by 4 p.m. eastern standard time on the deadline date.

Summary of Technical Corrections

Today's publication also corrects or clarifies a number of sections of the July 10, 2008, CoC NOFA. These corrections and clarifications are listed below by page and section.

On page 39840, Overview Information, Section F., first column, entitled “Dates,” HUD is revising this section to conform to the deadline date for applications established by today's publication. HUD had hoped to establish a deadline date at least 60 days from the publication date of today's publication. While the deadline date established by today's publication falls short of meeting this goal, HUD has attempted to provide potential CoC applicants 60 days notice of the deadline date by posting the deadline date for applications at http://www.hud.gov/esnaps.

On page 39845, Section III.A.1., HUD is correcting the eligibility chart, fourth column under “Section 8 SRO” to note that homeless individuals eligible for SRO need not be disabled.

On page 39851, Section V.1.e., third column, entitled “Emphasis on Housing Activities,” HUD is correcting this paragraph to note that HUD will award points based on the relationship between funds requested for housing activities and funds requested for supportive services activities among both new and renewal projects.

On page 39854, Section VI.B.1.a., second column, HUD inadvertently indicated that it will use five measurable indicators related to the Continuum of Care homeless assistance programs based on the Government Performance and Results Act. In fact, HUD will use four indicators.

Accordingly, the Notice of HUD's Notice of Funding Availability (NOFA) for the Continuum of Care Homeless Assistance Program, published on July 10, 2008, beginning at 73 FR 39840, is corrected as follows:

On page 39840, Overview Information, Section F., first column, entitled “Dates,” HUD is revising this section to read as follows:

F. Dates: The application deadline date for the CoC NOFA is September 26, 2008. Electronic applications must be received by e-snaps by 4 p.m. eastern time on the deadline date. HUD will close e-snaps at 4:01 p.m. eastern time. Similarly, paper applications from applicants granted a waiver from the electronic application submission requirement must be received by HUD by 4 p.m. eastern standard time on the deadline date.

On page 39845, Section III.A.1., HUD is correcting the eligibility chart, fourth column under “Section 8 SRO,” to read as follows:

Elements | Section 8 SRO
Authorizing Legislation | Section 441 of the McKinney-Vento Homeless Assistance Act, 42 U.S.C. 11401.
Implementing Regulations | 24 CFR part 882, subpart H, except that all persons receiving rental assistance must meet the McKinney-Vento definition of homelessness.
Eligible Applicant(s) | • PHAs. • Private nonprofit organizations.
Eligible Component(s) | • SRO housing.
Eligible Activities, See footnotes 1, 2, and 3 | • Rental assistance.
Eligible Populations, See footnote 2 | • Homeless individuals.
Populations Given Special Consideration | • N/A.
Initial Term of Assistance, See footnote 4 | • 10 years.

On page 39851, Section V.1.e., third column, entitled “Emphasis on Housing Activities,” HUD is correcting this paragraph to read as follows:

e. Emphasis on Housing Activities: HUD will award 18 points based on the relationship between funds requested for housing activities (i.e., transitional and permanent) and funds requested for supportive service activities. Housing emphasis will be calculated on eligible new and renewal projects within FPRN. HUD will count as housing activity all approvable requests for funds for rental assistance and approvable requests for acquisition, rehabilitation, construction, leasing and operations when used in connection with housing. HMIS costs and administrative costs will be excluded from this calculation. CoCs are not required to have 100 percent housing activities to receive the full 18 points for this scoring criteria.

On page 39854, Section VI.B.1.a., second column, HUD is correcting this paragraph to read as follows:

a. The Government Performance and Results Act (GPRA) requires Federal agencies to measure the performance of their programs. HUD captures this information not only from monitoring visits and APRs, but also on the data gathered in annual competitions. For example, the description of methods used in determining the project priority order submitted in Exhibit 1 provides verification that projects are performing satisfactorily and are effectively addressing the needs for which they were designed. HUD's homeless assistance programs are measured in 2008 by the objective to “end chronic homelessness and to move homeless families and individuals to permanent housing.” This objective has a number of measurable indicators, four of which relate directly to the Continuum of Care homeless assistance programs. These four indicators, as described below, will be collected in Exhibit 1:

(1) At least 415 functioning CoC communities will have a functional Homeless Management Information System (HMIS) by Fiscal Year 2008.

(2) The percentage of formerly homeless individuals who remain housed in HUD permanent housing projects for at least 6 months will be at least 71.5 percent.

(3) The percentage of homeless persons who have moved from HUD transitional housing into permanent housing will be at least 63.5 percent.

(4) The employment rate of persons exiting HUD homeless assistance projects will be at least 19 percent.

Dated: August 6, 2008.
William H. Eargle, Jr.,
Deputy Assistant Secretary for Operations, Community Planning and Development.

[FR Doc. E8-18662 Filed 8-12-08; 8:45 am]

BILLING CODE 4210-67-P